DEPARTMENT OF DEFENSE

Department of the Army

Notice of Intended Disinterment

AGENCY: Department of the Army, DoD.

ACTION: Notice of intended disinterment.

SUMMARY: Army National Military Cemeteries (ANMC) is honoring the requests of three families from the Northern Arapaho Tribe to disinter the human remains of three Native American children from the Carlisle Barracks Post Cemetery, Carlisle, Pennsylvania. The decedent names are Little Plume (aka Hayes Vanderbilt Friday), Little Chief (aka Dickens Nor), and Horse (aka Horace Washington). The decedents died in the early 1880s while attending the Carlisle Indian Industrial School. ANMC will disinter, transfer custody, transport, and reinter the remains in private cemeteries in Fremont County, Wyoming. This disinterment will be conducted in accordance with Army Regulation 210-190. This is not a Native American Graves Protection and Repatriation Act (NAGPRA) action because the remains are not part of a collection as they are interred in graves that are individually marked at the Carlisle Barracks Post Cemetery.

DATES: Disinterment is scheduled to begin on August 8, 2017. Transportation to and re-interment in Fremont County, Wyoming will take place as soon as practical after the disinterment. If other living relatives object to the disinterment of these remains, please provide written objection to Lieutenant Colonel Brent Kauffman at the address listed below prior to July 21, 2017.

ADDRESSES: Objections from family members and public comments can be mailed to Lieutenant Colonel Brent Kauffman, ANMC Project Manager, Arlington National Cemetery, Arlington, Virginia 22211 or emailed to usarmy.pentagon.hqda-anmc.mbx.accountability-coe@mail.mil (preferred).

FOR FURTHER INFORMATION CONTACT: Lieutenant Colonel Brent Kauffman, ANMC Project Manager at the email address listed above.

SUPPLEMENTARY INFORMATION: Additional information related to Native Americans buried at the Carlisle Barracks Post Cemetery can be found at http://www.belvoir.army.mil/ANMC/ReturnOfNativeAmericanRemains.asp.

Brenda S. Bowen,
Army Federal Register Liaison Officer.

[FR Doc. 2017-12933 Filed 6-20-17; 8:45 am]

BILLING CODE 5001-03-P